DEPARTMENT OF ENERGY

Federal Energy Regulatory Commission

Combined Notice of Filings

October 23, 2009.

Take notice that the Commission has received the following Natural Gas Pipeline Rate and Refund Report filings:

Docket Numbers: RP09-922-001.

Applicants: Florida Gas Transmission Company, LLC.

Description: Florida Gas Transmission Company, LLC submits Substitute Second Revised Sheet 30 et al. to FERC Gas Tariff, Fourth Revised Volume 1, to be effective March 1, 2010.

Filed Date: 10/19/2009.

Accession Number: 20091020-0022.

Comment Date: 5 p.m. Eastern Time on Monday, November 2, 2009.

Docket Numbers: RP10-39-001.

Applicants: ANR Pipeline Company.

Description: ANR Pipeline Company submits corrected redlined amendment to Rate Schedule FSS negotiated rate agreement with BP Canada Energy Marketing Corp, to be effective 10/8/09.

Filed Date: 10/19/2009.

Accession Number: 20091020-0021.

Comment Date: 5 p.m. Eastern Time on Monday, November 2, 2009.

Docket Numbers: RP09-1027-001.

Applicants: White River Hub, LLC.

Description: White River Hub, LLC submits Second Substitute First Revised Sheet 243 to its FERC Gas Tariff, Original Volume 1, to be effective 10/1/09.

Filed Date: 10/22/2009.

Accession Number: 20091023-0010.

Comment Date: 5 p.m. Eastern Time on Tuesday, November 3, 2009.

Docket Numbers: RP09-1029-001.

Applicants: Questar Overthrust Pipeline Company.

Description: Questar Overthrust Pipeline Company submits Second Substitute First Revised Sheet No 211 to its FERC Gas Tariff, Second Revised Volume No 1-A.

Filed Date: 10/22/2009.

Accession Number: 20091023-0015.

Comment Date: 5 p.m. Eastern Time on Tuesday, November 3, 2009.

Docket Numbers: RP09-1028-001.

Applicants: Questar Southern Trails Pipeline Company.

Description: Questar Southern Trails Pipeline Company submits Second Substitute First Revised Sheet No 130 to its FERC Gas Tariff, Original Volume No 1.

Filed Date: 10/22/2009.

Accession Number: 20091023-0014.

Comment Date: 5 p.m. Eastern Time on Tuesday, November 3, 2009.

Docket Numbers: RP09-1030-001.

Applicants: Questar Pipeline Company.

Description: Questar Pipeline Company submits Substitute Fourth Revised Sheet 201 et al. to FERC Gas Tariff, First Revised Volume 1.

Filed Date: 10/22/2009.

Accession Number: 20091023-0013.

Comment Date: 5 p.m. Eastern Time on Tuesday, November 3, 2009.

Docket Numbers: RP09-1037-001.

Applicants: Questar Pipeline Company.

Description: Questar Pipeline Company submits proposed Substitute Eighth Revised Sheet 8 to FERC Gas Tariff, First Revised Volume 1, to be effective 10/7/09.

Filed Date: 10/19/2009.

Accession Number: 20091020-0023.

Comment Date: 5 p.m. Eastern Time on Monday, November 2, 2009.

Any person desiring to protest this filing must file in accordance with Rule 211 of the Commission's Rules of Practice and Procedure (18 CFR 385.211). Protests to this filing will be considered by the Commission in determining the appropriate action to be taken, but will not serve to make protestants parties to the proceeding. Such protests must be filed on or before 5 p.m. Eastern time on the specified comment date. Anyone filing a protest must serve a copy of that document on all the parties to the proceeding.

The Commission encourages electronic submission of protests in lieu of paper using the “eFiling” link at http://www.ferc.gov. Persons unable to file electronically should submit an original and 14 copies of the protest to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Nathaniel J. Davis, Sr.,
Deputy Secretary.

[FR Doc. E9-26276 Filed 10-30-09; 8:45 am]

BILLING CODE 6717-01-P